DEPARTMENT OF ENERGY

Federal Energy Regulatory Commission

Notice of Commission Staff Attendance

The Federal Energy Regulatory Commission hereby gives notice that members of the Commission's staff may attend the following meeting related to the transmission planning activities of New York Independent System Operator, Inc.:

Joint Inter-Regional Planning Task Force/Electric System Planning Working Group

July 18, 2012, 10 a.m. to 4 p.m., Local Time.

Inter-area Planning Stakeholder Advisory Committee

August 27, 2012, 9 a.m. to 12 p.m., Local Time (teleconference only).

The above-referenced Joint Inter-Regional Planning Task Force/Electric System Planning Working Group meeting will be held at: NYISO's offices, Rensselaer, NY.

The above-referenced Inter-area Planning Stakeholder Advisory Committee meeting will be held via teleconference.

The above-referenced meetings are open to stakeholders.

Further information may be found at www.nyiso.com.

The discussions at the meetings described above may address matters at issue in the following proceedings:

Docket No. ER08-1281, New York Independent System Operator, Inc.

For more information, contact James Eason, Office of Energy Market Regulation, Federal Energy Regulatory Commission at (202) 502-8622 or James.Eason@ferc.gov.

Dated: July 5, 2012.
Kimberly D. Bose,
Secretary.

[FR Doc. 2012-16993 Filed 7-11-12; 8:45 am]

BILLING CODE 6717-01-P